NUCLEAR REGULATORY COMMISSION

[Docket No. 52-046; NRC-2015-0021]

Korea Hydro and Nuclear Power Co., Ltd., and Korea Electric Power Corporation

AGENCY: Nuclear Regulatory Commission.

ACTION: Notice of docketing.

SUMMARY: The U.S. Nuclear Regulatory Commission (NRC) has determined that Korea Hydro and Nuclear Power Co., Ltd. (KHNP) and Korea Electric Power Corporation (KEPCO) have submitted information for a standard design certification of the APR1400 Standard Plant Design that is acceptable for docketing. The docket number established is 52-046.

DATES: March 12, 2015.

ADDRESSES: Please refer to Docket ID NRC-2015-0021 when contacting the NRC about the availability of information regarding this document. You may obtain publicly-available information related to this document using any of the following methods:

• Federal Rulemaking Web site: Go to http://www.regulations.gov and search for Docket ID NRC-2015-0021. Address questions about NRC dockets to Carol Gallagher; telephone: 301-415-3463; email: Carol.Gallagher@nrc.gov. For technical questions, contact the individual listed in the FOR FURTHER INFORMATION CONTACT section of this document.

• NRC'S Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced. The application is available in ADAMS under Accession No. ML15006A037.

• NRC's PDR: You may examine and purchase copies of public documents at the NRC's PDR, Room O1-F21, One White Flint North, 11555 Rockville Pike, Rockville, Maryland 20852.

FOR FURTHER INFORMATION CONTACT: Jeffrey Ciocco, Office of New Reactors, U.S. Nuclear Regulatory Commission, Washington, DC, 20555-0001; telephone: 301-415-6391; email: Jeff.Ciocco@nrc.gov.

SUPPLEMENTARY INFORMATION: By letter dated December 23, 2014, KHNP and KEPCO filed with the NRC, pursuant to Section 103 of the Atomic Energy Act and part 52 of Title 10 of the Code of Federal Regulations (10 CFR), “Licenses, Certifications, and Approvals for Nuclear Power Plants,” an application for standard design certification of the APR1400 Standard Plant Design. A notice of receipt for this application was previously published in the Federal Register on February 3, 2015 (80 FR 5792).

The APR1400 stands for Advanced Power Reactor with a 1,400 megawatts electrical power and two-loop pressurized water reactor, developed in the Republic of Korea. According to the applicant, based on the self-reliant technologies and experiences from the design, construction, operation and maintenance of the Optimized Power Reactor 1000 (OPR1000), the APR1400 adopts advanced design features to enhance plant safety, economical efficiency, and convenience of operation and maintenance. The APR1400 application includes the entire power generation complex, except those elements and features considered site-specific.

The NRC staff has determined that KHNP and KEPCO have submitted information in accordance with 10 CFR part 2, “Rules of Practice for Domestic Licensing Proceedings and Issuance of Orders,” and 10 CFR part 52 that is acceptable for docketing. The docket number established for this application is 52-046.

The NRC staff will perform a detailed technical review of the design certification application. Docketing of the design certification application does not preclude the NRC from requesting additional information from the applicant as the review proceeds, nor does it predict whether the NRC will grant or deny the application. A notice related to the rulemaking pursuant to 10 CFR 52.51 for design certification, including provisions for participation of the public and other parties, will be the subject of a subsequent Federal Register notice.

Dated at Rockville, Maryland, this 3rd day of March, 2015.
For the Nuclear Regulatory Commission.
Jeffrey A. Ciocco,
Senior Project Manager, Licensing Branch 2, Division of New Reactor Licensing, Office of New Reactors.

[FR Doc. 2015-05579 Filed 3-11-15; 8:45 am]

BILLING CODE 7590-01-P